Title 3—

The President

Proclamation 8309 of October 16, 2008

National Forest Products Week, 2008

By the President of the United States of America

A Proclamation

During National Forest Products Week, we highlight our country's commitment to protect and wisely use America's forests for our Nation's prosperity and well-being.

Across our country, citizens rely on forest products to meet their daily needs. Our forests enable us to produce goods such as paper and furniture, provide raw materials such as lumber for homes and buildings, and offer job opportunities that bring economic security for many Americans.

My Administration is steadfast in its commitment to protect our forests from both manmade and natural harm. It is vital that we continue to make progress in conserving our natural resources and using them responsibly. Since 2002, we have worked to restore our forests and protected them against catastrophic fires as part of the Healthy Forests Initiative. Americans take great pride in our country's natural splendor, and by working together to be good stewards of the environment, we can leave our children and grandchildren a healthy and flourishing land.

Recognizing the importance of our forests in ensuring our Nation's well-being, the Congress, by Public Law 86-753 (36 U.S.C. 123), as amended, has designated the week beginning on the third Sunday in October of each year as “National Forest Products Week” and has authorized and requested the President to issue a proclamation in observance of this week.

NOW, THEREFORE, I, GEORGE W. BUSH, President of the United States of America, do hereby proclaim October 19 through October 25, 2008, as National Forest Products Week. I call upon all Americans to observe this week with appropriate ceremonies and activities.

IN WITNESS WHEREOF, I have hereunto set my hand this sixteenth day of October, in the year of our Lord two thousand eight, and of the Independence of the United States of America the two hundred and thirty-third.

[FR Doc. E8-25198

Filed 10-20-08; 8:45 am]

Billing code 3195-W9-P